DEPARTMENT OF HEALTH AND HUMAN SERVICES

Administration for Children and Families

Proposed Information Collection Activity; Comment Request

Title: DHHS/ACF/OPRE Head Start Classroom-based Approaches and Resources for Emotion and Social skill promotion (CARES) project: Impact and Implementation Studies—Extension.

OMB No.: 0970-0364.

Description: The Head Start Classroom-based Approaches and Resources for Emotion and Social skill promotion (CARES) project is evaluating social emotional program enhancements within Head Start settings serving three- and four-year old children. This project focuses on identifying the central features of effective programs to provide the information federal policy makers and Head Start providers will need if they are to increase Head Start's capacity to improve the social and emotional skills and school readiness of preschool age children. The project is sponsored by the Office of Planning, Research, and Evaluation (OPRE) of the Administration for Children and Families (ACF). The Head Start CARES project uses a group-based randomized design to test the effects of three different evidence-based programs designed to improve the social and emotional development of children in Head Start classrooms.

Data to assess impacts of the program models in preschool was collected through surveys with teachers and parents, as well as direct child assessments. Data to assess implementation of the program models in preschool was collected through surveys and interviews with teachers, local coaches, trainers and center staff. Data collection for both the impact and implementation studies occurred during the Head Start Year. The study sample involved 17 Head Start grantees/delegate agencies, 104 centers, 307 classrooms, 1,042 selected 3-year old children and 2,885 selected 4-year old children.

The purpose of this request is to obtain an extension to finish impact data collection in the 2012 Follow-up Year (e.g., Kindergarten for the 4-year olds). This data to assess impacts of the program models in the kindergarten year will be collected through teacher reports (surveys) and parent surveys.

Respondents: The respondents for the activities under the extension request for Follow-Up year data collection will be parents of children and kindergarten teachers of children in the study.

The annual burden estimates for both surveys covered by the extension are detailed below.

Annual Burden Estimates—Extension
Instrument | Annual number of respondents | Number of responses per respondent | Average burden hours per response | Estimated annual burden hours
Teacher Report on Individual Children | 962 | 1 | 0.33 | 317.5
Follow-up Parent Survey | 962 | 1 | 0.33 | 317.5

Estimated Total Annual Burden Hours: 635.0.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 1, 2012.
Steven M. Hanmer,
OPRE Reports Clearance Officer.

[FR Doc. 2012-2738 Filed 2-7-12; 8:45 am]

BILLING CODE 4184-22-P